DEPARTMENT OF COMMERCE

National Oceanic and Atmospheric Administration

[I.D. 031903G]

Marine Mammals; File No. 1034-1685

AGENCY: National Marine Fisheries Service (NMFS), National Oceanic and Atmospheric Administration (NOAA), Commerce.

ACTION: Issuance of permit.

SUMMARY: Notice is hereby given that Dr. Markus Horning, Department of Marine Biology, Texas A&M University, Galveston, Texas 77551, has been issued a permit to take California sea lions (Zalophus californianus) for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)713-0376; and

Southwest Region, NMFS, 501 West Ocean Blvd., Suite 4200, Long Beach, CA 90802-4213; phone (562)980-4001; fax (562)980-4018.

FOR FURTHER INFORMATION CONTACT: Amy Sloan or Tammy Adams, (301)713-2289.

SUPPLEMENTARY INFORMATION: On July 22, 2002, notice was published in the Federal Register (67 FR 47774) that a request for a scientific research permit to take the species identified above had been submitted by the above-named individual. The requested permit has been issued under the authority of the Marine Mammal Protection Act of 1972, as amended (16 U.S.C. 1361 et seq.), and the Regulations Governing the Taking and Importing of Marine Mammals (50 CFR part 216).

The permit authorizes implantation of dual satellite-linked life history transmitters in up to 30 rehabilitated California sea lions at the Marine Mammal Center to determine long-term post-release survival rates. External tags will also be attached for short-term monitoring. To assess stress levels from surgical procedures, and to relate post-rehabilitation health status to survival, blood samples will be collected for standard clinical hematology and chemistry panels. Blubber biopsies, bioelectrical impedance analysis, deuterium dilution determinations, and blubber ultrasound will also be performed. In addition, three control groups of California sea lions of similar age undergoing rehabilitation at TMMC will be utilized to compare short-term effects on animals with the implanted tags to animals without the implanted tags having similar procedures (e.g., anesthesia, laparoscopy) performed as part of their rehabilitation. Up to a total of 90 control animals (three groups of 30) will be used in this study, and will have some or all of the following procedures performed: blood and blubber sampling, bioelectrical impedance analyses, deuterium dilutions, and blubber ultrasound. The permit is for a five year period.

Dated: April 17, 2003.
Stephen L. Leathery,
Chief, Permits, Conservation and Education Division, Office of Protected Resources, National Marine Fisheries Service.

[FR Doc. 03-10162 Filed 4-23-03; 8:45 am]

BILLING CODE 3510-22-S